DEPARTMENT OF THE INTERIOR

Fish and Wildlife Service

Multistate Conservation Grant Program; Priority List for Conservation Projects

AGENCY: U.S. Fish and Wildlife Service, Department of the Interior.

ACTION: Notice of receipt of priority list.

SUMMARY: The U.S. Fish and Wildlife Service is publishing in the Federal Register the priority list of 18 wildlife and sport fish conservation projects submitted by the International Association of Fish and Wildlife Agencies for funding under the Multistate Conservation Grant Program. This notice is required by the Wildlife and Sport Fish Restoration Programs Improvement Act of 2000 (Pub. L. 106-408). FY 2004 grants may be made from this priority list.

FOR FURTHER INFORMATION CONTACT: Pam Matthes, Multistate Conservation Grants Program Coordinator, Division of Federal Assistance, U.S. Fish and Wildlife Service, 4401 North Fairfax Drive, Mail Stop MBSP-4020, Arlington, Virginia 22203; phone (703) 358-2066; or e-mail Pam_Matthes@fws.gov.

SUPPLEMENTARY INFORMATION: The Wildlife and Sport Fish Restoration Programs Improvement Act of 2000 (Improvement Act) amended the Pittman-Robertson Wildlife Restoration Act (16 U.S.C. 669 et seq.) and the Dingell-Johnson Sport Fish Restoration Act (16 U.S.C. 777 et seq.) and established the Multistate Conservation Grant Program. The Improvement Act authorizes grants of up to $3 million annually from funds available under each of the Restoration Acts, for a total of up to $6 million annually. Grants may be made from a priority list of projects submitted by the International Association of Fish and Wildlife Agencies (IAFWA), which represent the State fish and wildlife agencies. The Director of the U.S. Fish and Wildlife Service, exercising the authority of the Secretary of the Interior, need not fund all recommended projects, but may not fund projects that are not recommended.

To be eligible for consideration by the IAFWA, a project must benefit fish and/or wildlife conservation in at least 26 States, a majority of the States in a region of the U.S. Fish and Wildlife Service, or a regional association of State fish and wildlife agencies. Grants may be made to a State or group of States, to non-governmental organizations, and to the U.S. Fish and Wildlife Service or a State or group of States for the purpose of carrying out the National Survey of Fishing, Hunting and Wildlife-Associated Recreation. IAFWA requires proposals to address its National Conservation Needs, which are announced annually at the same time as the request for proposals.

The IAFWA prepares the priority list through a committee comprising the heads of State fish and game departments (or their designees) in consultation with non-governmental organizations that represent conservation organizations, sportsmen organizations, and industries that support or promote hunting, trapping, recreational shooting, bow hunting, or archery. The priority list must be approved by majority vote of the heads of State fish and game departments (or their designees).

The priority list of projects submitted by the IAFWA follows:

IAFWA's Priority List of Projects for the 2004 Multistate Conservation Grant Program
Proposal ID | Title of proposal | Submitted by | Funds requested: FY 2004: PR | Funds requested: FY 2004: WB | Funds requested: FY 2005: PR | Funds requested: FY 2005: WB | Funds requested: FY 2006: PR | Funds requested: FY 2006: WB | Funds requested: FY 2007: PR | Funds requested: FY 2007: WB | Funds requested: FY 2008: PR | Funds requested: FY 2008: WB | Totals
04-002* | Propagated Fish in Resource Management symposium & workshpp | American Fisheries Society |  | $118,209 |  |  |  |  |  |  |  |  | $118,209
04-003* | Factors that Drive Sportfishing License Sales | American Sportfishing Association |  | $124,554 |  |  |  |  |  |  |  |  | $124,554
04-005* | Becoming an Outdoors Woman: Educating Women in Farmland Stewardship & Fish and Wildlife-Based Recreation | Becoming an Outdoors-Woman Program; University of Wisconsin-Stevens Point | $178,321 |  | 192,543 |  |  |  |  |  |  |  | $370,.864
04-007* | Multistate Conservation Grant Program Coordination | IAFWA-Executive Committee | $48,490 | 48,490 | 50,350 | 50,350 |  |  |  |  |  |  | $197,680
04-009* | Coordination of the Farm Bill Conservation Program Implementation | IAFWA-Agricultural Conservation Task Force | $117,000 |  | 123,300 |  |  |  |  |  |  |  | $240,000
04-010* | Coordination of Revisions of the NRCS National Handbook of Conservation Practices | IAFWA-Agricultural Conservation Task Force | $75,000 |  |  |  |  |  |  |  |  |  | $75,000
04-012 | Trailblazer Adventure Program | US Sportsmen's Alliance | $80,000 | 80,000 | 80,000 | 80,000 |  |  |  |  |  |  | $320,000
04-013 | Step Outside | National Shooting Sports Foundation | $78,800 | 78,800 |  |  |  |  |  |  |  |  | $157,600
04-014 | National Archery in the School Program | National Alliance for the Development of Archery | $77,000 |  | 54,000 |  | 54,000 |  |  |  |  |  | $185,000
04-016* | The Cost of Not Hunting and Trapping | IAWFA-Animal Use Issues Committee & Education, Outreach & Diversity Committee | $67,860 |  |  |  |  |  |  |  |  |  | $67,860
04-027 | Public Opinion on and Attitudes toward Fish and Wildlife Management in the 16 SEAFWA States | SEAFWA, Contractor: Responsive Management | $172,723 | 172,723 |  |  |  |  |  |  |  |  | $345,445
04-041* | State Wildlife Grant Plan Development: National Coordinated Assistance for all 50 States | IAFWA-Teaming With Wildlife Committee | $74,000 | 24,800 | 74,400 | 24,800 |  |  |  |  |  |  | $198,400
04-043* | The Conservation Communication Team | IAFWA-Education, Outreach & Diversity Committee and the Animal Use Issues Committee | $30,000 | 30,000 |  |  |  |  |  |  |  |  | $60,000
04-046* | Furbearer Management and Regulated Trapping Professional Development Workshops & Communication Planning Sessions for Fish & Wildlife Professionals | IAFWA-Furbearer Resources Task Force and the Education, Outreach, & Diversity Committee | $187,897 |  |  |  |  |  |  |  |  |  | $187,897
04-048 | Developing State Aquatic Nuisance Species Management Plans & Strategies for the Southeastern United States | Tennessee Wildlife Resources Agency |  | $77,500 |  | 77,500 |  | 77,500 |  |  |  |  | $232,500
04-055* | Facilitation & Continuation of the Partnership between the Foundation & our State Partners for the Planning & Implementing of the Hooked On Fishing—Not on Drugs Program | Future Fisherman Foundation |  | $128,000 |  | 172,500 |  | 197,000 |  |  |  |  | $497,500
04-035 | Project Coordinator for the 2006 National Survey-State-level Data | USFWS | $190,452 | 190,452 | 172,190 | 172,190 |  |  |  |  |  |  | 725,284
04-040a | 2006 National Survey-Option 6 | USFWS | $1,357,387 | 1,357,387 | 1,357,387 | 1,357,387 | 1,357,387 | 1,357,387 | 1,357,387 | 1,357,387 | 110,454 | 110,454 | $11,080,004
Totals |  |  | $2,735,330 | 2,430,915 | 2,103,870 | 1,934,727 | 1,411,387 | 1,631,887 | 1,357,387 | 1,357,387 | 110,454 | 110,454 | $15,183,797
PR=Pittman-Robertson Wildlife Restoration Act.
WB=Wallop Breaux (Dingell-Johnson) Sport Fish Restoration Act.
*Denotes proposal reviewed by more than one IAFWA committee.

Dated: February 4, 2004.
Steve Williams,
Director, Fish and Wildlife Service.

[FR Doc. 04-3241 Filed 2-12-04; 8:45 am]

BILLING CODE 4310-55-M